ENVIRONMENTAL PROTECTION AGENCY

[EPA-HQ-OW-2016-0438; FRL-9969-49-OW]

Notice of Extension to Comment Period on the Request for Public Comments To Be Sent to EPA on Peer Review Materials To Inform the Safe Drinking Water Act Decision Making on Perchlorate

AGENCY: Environmental Protection Agency (EPA).

ACTION: Notice; extension of comment period.

SUMMARY: The U.S. Environmental Protection Agency (EPA) is extending the comment period for the notice, “Request for Public Comments To Be Sent to EPA on Peer Review Materials To Inform the Safe Drinking Water Act Decision Making on Perchlorate.” In response to stakeholder requests, EPA is extending the comment period for the “Draft Report: Proposed Approaches To Inform the Derivation of a Maximum Contaminant Level Goal for Perchlorate in Drinking Water” (draft MCLG Approaches Report)” an additional 21 days, from October 30, 2017, to November 20, 2017.

DATES: The comment period announced in the notice that was published on September 15, 2017 (82 FR 43354) is extended. Comments must now be received by EPA on or before November 20, 2017.

ADDRESSES: Submit your comments, identified by Docket ID No. EPA-HQ-OW-2016-0438 to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: For additional information please contact Samuel Hernandez at the U.S. EPA, Office of Ground Water and Drinking Water, Standards and Risk Management Division (Mail Code 4607M), 1200 Pennsylvania Avenue NW., Washington, DC 20460; telephone: 202-564-1735; or email: hernandez.samuel@epa.gov.

SUPPLEMENTARY INFORMATION: On September 15, 2017, EPA published in the Federal Register (82 FR 43354), a notice announcing the release of materials for public comment. The materials will undergo expert peer review in support of the EPA's Safe Drinking Water Act decision making on perchlorate. The Agency requested comment on the draft MCLG Approaches Report. The notice of request for public comment, as initially published in the Federal Register, provided for written comments to be submitted to EPA on or before October 30, 2017 (a 45-day public comment period). Since publication, EPA has received requests for additional time to submit comments. EPA is extending the public comment period for 21 days until November 20, 2017. EPA will consider public comments and peer review recommendations in future revisions to the MCLG Approaches Report. The draft report is available at http://www.regulations.gov (Docket ID No. EPA-HQ-OW-2016-0438). The revised BBDR model code files can be accessed at https://hero.epa.gov/hero/index.cfm/reference/details/reference_id/3352518.

Dated: October 4, 2017.
Michael H. Shapiro,
Acting Assistant Administrator, Office of Water.

[FR Doc. 2017-22112 Filed 10-11-17; 8:45 am]

BILLING CODE 6560-50-P